DEPARTMENT OF LABOR

Employment and Training Administration

[TA-W-82,285]

U.S. Steel Tubular Products, Inc., Mckeesport Tubular Operations Division, Subsidiary of United States Steel Corporation, Mckeesport, Pennsylvania; Notice of Amended Certification

Pursuant to Section 221 of the Trade Act of 1974, as amended, an investigation was initiated in response to a petition for Trade Adjustment Assistance (TAA) filed on December 20, 2012 on behalf of workers of U.S. Steel Tubular Products, McKeesport Tubular Operations Division, a subsidiary of United States Steel Corporation, McKeesport, Pennsylvania (hereafter collectively referred to as “U.S. Steel Tubular Products” or “subject firm”). The workers' firm produces steel drill pipe and drill collars. The worker group does not include on-site leased workers.

On January 28, 2013, the Department issued a certification stating that the criteria set forth in Section 222(e) of the Trade Act of 1974, as amended, was met.

A review of the determination and the petition, however, revealed that the certification was erroneously issued. Specifically, the determination inaccurately stated that the petition was filed within a year of the March 3, 2011 publication in the Federal Register of the International Trade Commission's finding that dumping of drill pipes and drill collars from China negatively impacted U.S. firms engaged in production of those articles.

Although the subject firm was publicly identified by name by the International Trade Commission (ITC) as a member of a domestic industry in an investigation resulting in a category of determination that is listed in Section 222(e) of the Act, 19 U.S.C. 2272(e), the petition was filed more than a year after the publication of the ITC's findings in the Federal Register.

As such, the Department conducted another investigation to determine whether or not the petitioning worker group has met the criteria set forth in Section 222(a) or (b) of the Trade Act of 1974, as amended.

Based on previously-submitted information and additional information obtained during the amendment investigation, the Department has determined that Section 222(a)(1) has been met because a significant number or proportion of the workers at U.S. Steel Tubular Products have become totally or partially separated, or are threatened with such separation; that Section 222(a)(2)(A)(i) has been met because U.S. Steel Tubular Products sales and/or production of steel drill pipe and drill collars have decreased; that Section 222(a)(2)(A)(ii) has been met because aggregate imports of articles like or directly competitive with steel drill pipe and drill collars produced by U.S. Steel Tubular Products have increased during the relevant period; and that Section 222(a)(2)(A)(iii) has been met because increased aggregate imports contributed importantly to the worker group separations and sales/production declines at U.S. Steel Tubular Products.

Conclusion

After careful review of previously-submitted facts and new facts obtained during the amendment investigation, I determine that workers of U.S. Steel Tubular Products, McKeesport Tubular Operations Division, a subsidiary of United States Steel Corporation, McKeesport, Pennsylvania, who were engaged in employment related to the production of steel drill pipe and drill collars, meet the worker group certification criteria under Section 222(a) of the Act, 19 U.S.C. 2272(a). In accordance with Section 223 of the Act, 19 U.S.C. 2273, I make the following certification:

All workers of U.S. Steel Tubular Products, McKeesport Tubular Operations Division, a subsidiary of United States Steel Corporation, McKeesport, Pennsylvania, who became totally or partially separated from employment on or after December 19, 2011, through January 28, 2013, and all workers in the group threatened with total or partial separation from employment on January 28, 2013 through January 28, 2015, are eligible to apply for adjustment assistance under Chapter 2 of Title II of the Trade Act of 1974, as amended.

Signed in Washington, DC, this 5th day of June, 2013.
Del Min Amy Chen,
Certifying Officer, Office of Trade Adjustment Assistance.

[FR Doc. 2013-14853 Filed 6-20-13; 8:45 am]

BILLING CODE 4510-FN-P